DEPARTMENT OF TRANSPORTATION

Maritime Administration

[Docket No. DOT-MARAD 2017-0078]

Agency Requests for Renewal of a Previously Approved Information Collection(s): Uniform Financial Reporting Requirements

AGENCY: Maritime Administration, Department of Transportation.

ACTION: Notice and request for comments.

SUMMARY: The Maritime Administration (MARAD) invites public comments about our intention to request the Office of Management and Budget (OMB) approval to renew an information collection. The information collection is necessary for MARAD to evaluate the financial condition of entities borrowing funds from or receiving financial benefits from MARAD. We are required to publish this notice in the Federal Register by the Paperwork Reduction Act of 1995.

DATES: Written comments should be submitted by June 23, 2017.

ADDRESSES: You may submit comments identified by Docket No. DOT-MARAD-2017-0078 through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Daniel Ladd, Director, 202-366-1859, Office of Financial Approvals, Maritime Administration, U.S. Department of Transportation, 1200 New Jersey Avenue SE, Washington, DC 20590.

SUPPLEMENTARY INFORMATION:

OMB Control Number: 2133-0005.

Title: Uniform Financial Reporting Requirements.

Form Numbers: MA-172.

Type of Review: Renewal of an information collection.

Background: The Uniform Financial Reporting Requirements are used as a basis for preparing and filing semi-annual and annual financial statements with the Maritime Administration. Regulations requiring financial reports to the Maritime Administration are authorized by Section 801 of the Merchant Marine Act, 1936 (46 U.S.C. 53101 note). Financial reports are also required by regulation of purchasers of ships from MARAD on credit, companies chartering ships from MARAD, and of companies having Title XI guarantee obligations (46 CFR part 298).

Respondents: Vessel owners acquiring ships from MARAD on credit, companies chartering ships from MARAD, and companies having Title XI guarantee obligations.

Number of Respondents: 50.

Frequency: Twice a year.

Number of Responses: 100.

Total Annual Burden: 950.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

(Authority: The Paperwork Reduction Act of 1995; 44 U.S.C. Chapter 35, as amended; and 49 CFR 1.93)

By Order of the Maritime Administrator.
Dated: April 18, 2017.
T. Mitchell Hudson, Jr.,
Secretary, Maritime Administration.

[FR Doc. 2017-08172 Filed 4-21-17; 8:45 am]

BILLING CODE 4910-81-P